DEPARTMENT OF ENERGY

Federal Energy Regulatory Commission

[Docket No. CP00-6-006]

Gulfstream Natural Gas System, L.L.C.; Notice of Compliance Filing

August 12, 2002.

Take notice that on June 19, 2002, Gulfstream Natural Gas Company, L.L.C. tendered for filing as part of its FERC Gas Tariff, Original Volume No. 1, the tariff sheets listed on the filing, with an effective date of May 28, 2002.

Gulfstream states that the filing is being made in compliance with the Commission's May 20, 2002 order accepting original tariff sheets filed by Gulfstream in this proceeding on March 27, 2002, as modified on April 29, 2002.

Any person desiring to protest said filing should file a protest with the Federal Energy Regulatory Commission, 888 First Street, NE., Washington, DC 20426, in accordance with Section 385.211 of the Commission's Rules and Regulations. All such protests must be filed on or before August 19, 2002. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202) 502-8222 or for TTY, (202) 208-1659. Comments, protests and interventions may be filed electronically via the Internet in lieu of paper. The Commission strongly encourage electronic filings. See, 18 CFR 385.2001(a)(1)(iii) and the instructions on the Commission's web site under the “e-Filing” link.

Linwood A. Watson, Jr.,
Deputy Secretary.

[FR Doc. 02-20822 Filed 8-15-02; 8:45 am]

BILLING CODE 6717-01-P